DEPARTMENT OF DEFENSE

Department of the Army

Privacy Act of 1974; System of Records

AGENCY: Department of the Army, DOD.

ACTION: Notice to alter a system of records.

SUMMARY: The Department of the Army is proposing to alter a system of records notice to its existing inventory of record systems subject to the Privacy Act of 1974, (5 U.S.C. 552a), as amended. The alteration expands the categories of individuals covered to include any individual on any DoD base or installation whose privately owned animal receives veterinary care. Previously, the system of records covered only those individuals whose animals were treated on Army installations and activities.

DATES: This proposed action will be effective without further notice on February 7, 2001 unless comments are received which result in a contrary determination.

ADDRESSES: Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on December 19, 2000, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 20, 2000.
Patricia L. Toppings,
Alternate OSD Federal Register Liaison Officer, Department of Defense.

A0040-905 DASG

System Name:

Privately Owned Animal Record Files (August 7, 1997, 62 FR 24534).

Changes:

* * * * *

System Name:

Add ‘Defense’ to beginning of entry.

System Location:

Delete entry and replace with ‘Medical facilities on DoD bases and installations where veterinary services are provided.’

Categories of Individuals Covered by the System:

Delete entry and replace with ‘Persons who privately own animals which receive veterinary care on any DoD base or installation.’

* * * * *

Authority for Maintenance of the System:

Add to entry ‘DoD Directive 6015.5, Joint Use of Military Health and Medical Facilities and Service; and Army Regulation 40-905, Veterinary Health Services.’

* * * * *

Storage:

Delete entry and replace with ‘Paper records in file folders and electronic storage media.’

* * * * *

A0040-905 DASG

System Name:

Defense Privately Owned Animal Record Files.

System Location:

Medical facilities on DoD bases and installations where veterinary services are provided.

Categories of Individuals Covered by the System:

Persons who privately own animals which receive veterinary care on any DoD base or installation.

Categories of Records in the System:

Name, Social Security Number, home address and telephone number of animal’s owner; record of treatment of animal; and related information.

Authority for Maintenance of the System:

10 U.S.C. 3013, Secretary of the Army; DoD Directive 6015.5, Joint Use of Military Health and Medical Facilities and Service; Army Regulation 40-905, Veterinary Health Services; and E.O. 9397 (SSN).

Purpose(s):

To record registration, vaccination, and/or treatment of animals; to compile statistical data; and to identify animals registered with the Veterinary Treatment Facility. Used by veterinarians and health care authorities to identify the animal, verify ownership, record history, and to insure veterinary care, treatment and immunizations provided to animals of authorized owners is recorded; to compile statistical data; conduct research; teach; assist in law enforcement, to include investigation and litigation; and evaluate the care provided.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The information may be used to aid in preventive health and communicable disease control programs, report medical conditions required by law to Federal, state, and local agencies.

The DoD ‘Blanket Routine Uses’ set forth at the beginning of the Army's compilation of systems of records notices also apply to this system.

Policies and practices for storing, retrieving, accessing, retaining, and disposing of records in the system:

Storage:

Paper records in file folders and electronic storage media.

Retrievability:

By name and Social Security Number of the animal's owner.

Safeguards:

Records are maintained in buildings which are locked when unattended and are accessed only by authorized personnel having an official need-to-know.

Retention and Disposal:

Destroy upon death of the animal, transfer of owner, or 2 years after last entry in the record.

System Manager(s) and Address:

Chief Information Officer, Office of the Surgeon General, U.S. Army Medical Command, ATTN: MCIM, 2050 Worth Road, Suite 13, Fort Sam Houston, TX 78234-6013.

Notification Procedure:

Individuals seeking to determine if information about themselves is contained in this record system should address written inquiries to the veterinary facility at the installation where the animal was treated or euthanized.

Animal owner should provide the full name, Social Security Number, home address and telephone number and the animal's rabies vaccination number.

Record Access Procedures:

Individuals seeking access to records about themselves contained in this record system should address written inquiries to the veterinary facility at the installation where the animal was treated or euthanized.

Animal owner should provide the full name, Social Security Number, home address and telephone number and the animal's rabies vaccination number.

Personal visits may be made to the veterinary facility where animal was treated. Owner must provide personal identification such as a valid military identification card or driver's license.

Contesting Record Procedures:

The Army's rules for accessing records, and for contesting contents and appealing initial agency determinations are contained in Army Regulation 340-21; 32 CFR part 505; or may be obtained from the system manager.

Record Source Categories:

From the animal owner, veterinarian reports, and similar or related documents.

Exemptions Claimed for the System:

None.

[FR Doc. 01-410 Filed 1-5-01; 8:45 am]

BILLING CODE 5001-10-P